DEPARTMENT OF THE INTERIOR

Bureau of Land Management

[CACA-47658, CA-670-5101-ER-B204]

Notice of Intent To Prepare a Joint Environmental Impact Statement/Report and Proposed Land Use Plan Amendment for the Proposed Sunrise Powerlink Project, San Diego and Imperial Counties, CA

AGENCY: Bureau of Land Management, Interior.

ACTION: Notice of intent.

SUMMARY: Pursuant to section 102(2)(C) of the National Environmental Policy Act of 1969 (NEPA), as amended, notice is hereby given that the Bureau of Land Management (BLM), together with the California Public Utilities Commission (CPUC), intend to prepare a joint Environmental Impact Statement and Environmental Impact Report (EIS/EIR), and a proposed land use plan amendment to the 1980 California Desert Conservation Area Plan, (CDCA Plan), as amended for the Sunrise Powerlink Project (Project) proposed by San Diego Gas & Electric Company (SDG&E). The project would consist of the construction and operation of one new 500 kilovolt (kV) and three new 230 kV transmission lines in Imperial and San Diego Counties. BLM is the lead Federal agency for the preparation of this EIS in compliance with the requirements of NEPA. CPUC is the lead State of California agency for the preparation of this EIR in compliance with the requirements of the California Environmental Quality Act (CEQA).

DATES: This notice initiates the public participation and scoping processes for the EIS/EIR. A public scoping period of at least 30 days will commence on the date this notice is published in the Federal Register. To provide the public an opportunity to review the proposal and project information, BLM and CPUC expects to hold at least three public meetings, held at locations in Imperial and San Diego Counties. All public meetings will be announced through the local news media, mailings, and the BLM Web site (http://www.ca.blm.gov) at least 15 days prior to the event. Comments on issues, potential impacts, or suggestions for additional alternatives can be submitted in writing to the address listed below. In order to be included in the Draft EIS/EIR all comments must be received within 30 days of this publication or 15 days after the last public meeting is held, whichever is the later.

ADDRESSES: Comments and other correspondence should be sent to the BLM El Centro Field Office, attention Field Manager, 1661 S. 4th Street, El Centro, CA 92243; or by fax: (760) 337-4490. Documents pertinent to this proposal, including comments with the names and addresses of respondents, will be available for public review at the BLM El Centro Field Office, during regular business hours of 8 a.m. to 4:30 p.m., Monday through Friday, except holidays, and may be published as part of the Draft EIS/EIR. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: For further information and/or to have your name added to our mailing list, contact Lynda Kastoll, Realty Specialist, at the BLM El Centro Field Office, same address as listed above; Phone: (760) 337-4421; e-mail: lkastoll@ca.blm.gov.

SUPPLEMENTARY INFORMATION: SDG&E is proposing a new 500 kV transmission line from the existing Imperial Valley Substation near the community of El Centro, to a new “Central” substation to be located somewhere in central San Diego County. SDG&E also proposes to build two new 230 kV lines connecting the Central substation to the existing Sycamore Canyon substation and one new 230 kV line between the Sycamore Canyon substation and the existing Pe±asquitos Substation. The total length of the Project is estimated to be approximately 130 to 150 miles, of which roughly 40 to 60 miles would be located in Imperial County. The proposed 500 kV line transmission line would be constructed in part on BLM administered lands within the California Desert Conservation Area, as managed by the El Centro Field Office, and within San Diego County, as managed by the Palm Springs/South Coast Field Office. The remainder of the line would cross lands in various ownership, including private, State, and local agencies.

The proposed transmission line(s) will utilize 120-170 foot tall structures, spaced approximately 700-1,600 feet apart. It would occupy a right-of-way of approximately 200-300 feet in width. Existing disturbed corridors would be utilized to the extent feasible, to minimize potential environmental impacts. Where possible, SDG&E anticipates locating new facilities within or along existing rights-of-way. The 500 kV transmission line would traverse approximately 30 to 35 miles of BLM administered lands in Imperial County, and approximately one mile in San Diego County. A plan amendment to the CDCA Plan (1980) will be required because the Project would deviate from BLM designated utility corridors within the California Desert Conservation Area (Imperial County).

Through public scoping, BLM expects to identify various issues, potential impacts and mitigation measures, and alternatives to the proposed action. At present, BLM has identified a preliminary list of issues that will need to be addressed in this analysis, including the impacts of the proposed project on visual resources, agricultural lands, air quality, plant and animal species including special status species, cultural resources, and watersheds. Other issues identified by BLM are impacts to the public in the form of noise, traffic, accidental release of hazardous materials, and impacts to urban, residential, and recreational areas. Members of the public are invited to identify additional issues and concerns to be addressed.

BLM will analyze the proposed action and no action alternatives, as well as other possible alternatives to the project. Your comments concerning the proposed project and feasible alternative locations, possible mitigation measures, and any other information relevant to the proposed action are encouraged. Additional informational meetings may be conducted throughout the process to keep the public informed of the progress of the EIS/EIR.

Dated: July 20, 2006.
J. Anthony Danna,
Deputy State Director, Natural Resources (CA-930).

[FR Doc. E6-14502 Filed 8-30-06; 8:45 am]

BILLING CODE 4310-40-P